DEPARTMENT OF COMMERCE

National Institute of Standards and Technology

Technology Innovation Program (TIP) Notice of Additional Public Meetings (Proposers' Conferences)

AGENCY: National Institute of Standards and Technology (NIST), United States Department of Commerce.

ACTION: Notice of public meetings.

SUMMARY: The National Institute of Standards and Technology's (NIST) Technology Innovation Program (TIP) announces that it has scheduled three public meetings (Proposers' Conferences) on April 13, 2009, in Boston, Massachusetts; on April 15, 2009, in Detroit, Michigan; and on April 17, 2009, in San Jose, California. These meetings are in addition to the Proposers' Conference scheduled for April 8, 2009, in Gaithersburg, Maryland, that was announced previously in the Federal Register on March 31.

DATES: TIP announces that it is holding public meetings (Proposers' Conferences) on

1. April 8, 2009, 9 a.m.-1 p.m. Eastern Time in Gaithersburg, Maryland.

2. April 13, 2009, 1 p.m.-5 p.m. Eastern Time in Boston, Massachusetts.

3. April 15, 2009, 1 p.m.-5 p.m. Eastern Time in Detroit, Michigan.

4. April 17, 2009, 9 a.m.-1 p.m. Pacific Time in San Jose, California.

ADDRESSES: The Proposers' Conferences will be held at the following locations:

1. NIST Red Auditorium, 100 Bureau Drive, Gaithersburg, Maryland 20899. Electronic registration at: https://rproxy.nist.gov/CRS/.

2. Marriott Boston Cambridge, Two Cambridge Center, 50 Broadway, Cambridge, Massachusetts 02142.

3. Detroit Marriott at the Renaissance Center, 400 Renaissance Center, Detroit, Michigan 48243.

4. San Jose Marriott, 301 S. Market St., San Jose, California 95113.

FOR FURTHER INFORMATION CONTACT: Barbara Cuthill at 301-975-3273 or by e-mail at barbara.cuthill@nist.gov.

SUPPLEMENTARY INFORMATION: On March 31, 2009, the National Institute of Standards and Technology's (NIST) Technology Innovation Program (TIP) announced that it was soliciting high-risk, high-reward research and development (R&D) proposals for financial assistance. TIP is soliciting proposals under this fiscal year 2009 competition in two areas of critical national need entitled “Civil Infrastructure” and “Manufacturing” (74 FR 14524). TIP also announced the date and location of its Proposers' Conference on April 8, 2009, in Gaithersburg, Maryland, and indicated that any additional Proposers' Conferences would be announced in the Federal Register, on the http://grants.gov Web site and on the TIP Web site at http://www.nist.gov/tip. The legal authority for TIP is 15 USCS 278n.

TIP is holding Proposers' Conferences to provide general information regarding TIP, to offer guidance on preparing proposals, and to answer questions. Proprietary technical discussions about specific project ideas with NIST staff are not permitted at this Conference or at any time before submitting the proposal to TIP. Therefore, proposers should not expect to have proprietary issues addressed at the Proposers' Conference. Also, NIST/TIP staff will not critique or provide feedback on project ideas while they are being developed by a proposer. However, NIST/TIP staff will answer questions about the TIP eligibility and cost-sharing requirements, evaluation and award criteria, selection process, and the general characteristics of a competitive TIP proposal at the Proposers' Conference and by phone and e-mail. Attendance at the TIP Proposers' Conference is not required.

No registration fee will be charged at the Proposers' Conference. Presentation materials from the Proposers' Conference will be made available on the TIP Web site.

The Proposers' Conferences will be held as follows:

April 8, 2009, 9 a.m.-1 p.m. Eastern Time: NIST Red Auditorium, 100 Bureau Drive, Gaithersburg, Maryland 20899, (301-975-8910). Pre-registration is required by 5 p.m. Eastern Time on April 6, 2009 for the Proposers' Conference being held at NIST Gaithersburg, MD. Due to increased security at NIST, no on-site registrations will be accepted and all attendees must be pre-registered. Photo identification must be presented at the NIST main gate to be admitted to the April 8, 2009 Conference. Attendees must wear their Conference badge at all times while on the NIST campus. Electronic registration at: https://rproxy.nist.gov/CRS/.

April 13, 2009, 1 p.m.-5 p.m. Eastern Time: Marriott Boston Cambridge, Two Cambridge Center, 50 Broadway, Cambridge, Massachusetts 02142, (617-494-6600) Pre-registration is not required.

April 15, 2009, 1 p.m.-5 p.m. Eastern Time: Detroit Marriott at the Renaissance Center, 400 Renaissance Center, Detroit, Michigan 48243, (313-568-8000) Pre-registration is not required.

April 17, 2009, 9 a.m.-1 p.m. Pacific Time: San Jose Marriott, 301 S. Market St., San Jose, California 95113, (408-280-1300) Pre-registration is not required.

Additional Information: The full Federal Funding Opportunity (FFO) announcement for this request for proposals contains detailed information and requirements for the program. Proposers are strongly encouraged to read the FFO in developing proposals. The full FFO announcement text is available at http://www.grants.gov and on the TIP Web site at http://www.nist.gov/tip/helpful.html. In addition, proposers are directed to review the March 2009 Technology Innovation Program Proposal Preparation Kit available at http://www.nist.gov/tip/helpful.html. The TIP Proposal Preparation Kit must be used to prepare a TIP proposal. The TIP implementing regulations are published at 15 CFR Part 296, and included in the TIP Proposal Preparation Kit as Appendix B.

Dated: April 1, 2009.
Patrick Gallagher,
Deputy Director.

[FR Doc. E9-7852 Filed 4-6-09; 8:45 am]

BILLING CODE 3510-13-P